DEPARTMENT OF AGRICULTURE

Rural Utilities Service

Central Electric Power Cooperative, Inc.: Notice of Intent To Prepare an Environmental Impact Statement and Extend Scoping Comment Period

AGENCY: Rural Utilities Service, USDA.

ACTION: Notice of Intent To Prepare an Environmental Impact Statement and Extend Scoping Comment Period.

SUMMARY: The Rural Utilities Service (RUS) intends to prepare an Environmental Impact Statement (EIS) to meet its responsibilities under the National Environmental Policy Act (NEPA), the Council on Environmental Quality's regulations for implementing NEPA (40 CFR parts 1500-1508), RUS's Environmental and Policies and Procedures (7 CFR part 1794), and the U.S. Forest Service's (USFS) National Environmental Policy Act Procedures (36 CFR part 220) in connection with potential impacts related to a proposal by Central Electric Power Cooperative, Inc., (Central Electric) of Columbia, South Carolina. The proposal consists of constructing a 115 kilovolt (kV) transmission line through portions of Berkeley, Charleston, and/or Georgetown Counties, South Carolina, to the proposed McClellanville substation. Central Electric is requesting that RUS provide financial assistance for the proposal and may request that the USFS issue a special use permit for the proposal.

DATES: RUS has extended the public comment period to January 14, 2011. RUS will accept verbal and written comments regarding the proposal. Contact information for submitting comments is provided in the ADDRESSES section of this notice.

ADDRESSES: Send all written comments to the attention of Ms. Lauren McGee, Environmental Scientist, USDA Rural Utilities Service, Engineering and Environmental Staff, 1400 Independence Avenue, SW., Stop 1571, Room 2244-S, Washington, DC 20250-1571. Comments may also be sent via fax: (202) 690-0649, or by e-mail: lauren.mcgee@wdc.usda.gov. RUS will also accept verbal comments at the following telephone number: (855) 806-8863.

SUPPLEMENTARY INFORMATION: Central Electric proposes to construct a 115-kV transmission line to Berkeley Electric Cooperative's proposed McClellanville substation. The proposal would provide long-term, reliable electric service to the McClellanville community and surrounding areas. The transmission line may originate from one of the following points: Belle Isle (Georgetown County), Britton Neck (Georgetown County), Jamestown (Berkeley County), Honey Hill (Berkeley County), Charity (Charleston County), or Commonwealth (Charleston County). This notice invites government agencies, organizations, and the public to provide input in the development of the EIS for the proposal.

An updated Alternatives Evaluation Study (AES) and Macro-Corridor Study (MCS) were prepared for the proposal. The AES and MCS discuss the purpose and need for the proposal as well as the alternatives considered in the proposal's development. A public scoping meeting was held on September 29, 2010, 5 p.m. to 9 p.m. at St. James-Santee Elementary School, 8900 Highway 17 North, McClellanville, SC 29458. RUS, Central Electric, and Mangi Environmental Group gave a presentation at 6 p.m. and 8 p.m., which provided an overview of: (1) The Federal action being considered by RUS; (2) an overview of NEPA and the EIS process; and, (3) the purpose, need and alternatives considered in the development of the proposal. The AES and MCS (both dated September 2010), in addition to materials from the public meeting, are available for public review at the following RUS Web site: http://www.usda.gov/rus/water/ees/eis.htm. Due to an error in the mailing list for this proposal, RUS has extended the comment period to January 14, 2011.

Among the alternatives that RUS will address in the EIS is the “No Action” alternative, under which the proposal would not be undertaken. In the EIS, the effects of the proposal will be compared to the existing conditions in the proposal area. Alternative transmission line corridors will be refined as part of the EIS scoping process and will be addressed in the EIS. Public health and safety, environmental impacts, and engineering aspects of the proposal will be considered in the EIS.

RUS is the lead Federal agency, as defined at 40 CFR 1501.5, for preparation of the EIS. The USFS is a cooperating agency. With this notice, Federally recognized Native American Tribes and Federal agencies with jurisdiction or special expertise are invited to be cooperating agencies. Tribes or agencies may request to be a cooperating agency by contacting the RUS contact provided in this notice.

RUS will use input provided during scoping in the preparation of the Draft EIS. The Draft EIS will be available for review and comment for 45 days. A Final EIS that considers all comments received will subsequently be prepared. The Final EIS will be available for review for 30 days. Following the 30-day review period, RUS will prepare a Record of Decision (ROD). Notices announcing the availability of the Draft EIS, the Final EIS, and the ROD will be published in the Federal Register and in local newspapers. The USFS may issue a separate ROD for the proposal, which may be subject to an appeals period as prescribed in USFS departmental regulations.

Any final action by RUS related to the proposal will be subject to, and contingent upon, compliance with all relevant executive orders and Federal, State, and local environmental laws and regulations in addition to the completion of the environmental review requirements as prescribed in RUS's Environmental Policies and Procedures, 7 CFR part 1794, as amended.

Dated: December 2, 2010.
Richard Fristik,
Acting Director, Engineering and Environmental Staff, USDA, Rural Utilities Service.

[FR Doc. 2010-30898 Filed 12-7-10; 8:45 am]

BILLING CODE P